DEPARTMENT OF COMMERCE

National Oceanic and Atmospheric Administration

[RTID 0648-XE408]

Fisheries of the Caribbean, Gulf of Mexico, and South Atlantic; Shrimp Fishery of the Gulf of Mexico; Request for an Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Texas Sea Grant. If granted by NMFS, the EFP would authorize the continued testing of new designs for bycatch reduction devices (BRDs) for finfish, in the commercial shrimp fishery in Federal waters of the Gulf of Mexico (Gulf). The Better BRDs for the Gulf Shrimp Fleet Project is a collaborative effort to restore finfish populations and reduce finfish bycatch mortality through the development and certification of new BRDs for use by the commercial shrimp industry throughout the Gulf. This notice gives the public an opportunity to provide comments to NMFS regarding the request for an EFP.

DATES: Written comments must be received no later than December 3, 2024.

ADDRESSES: You may submit comments on the application, identified by NOAA-NMFS-2024-0128 by either of the following methods:

• Electronic Submission: Submit all electronic public comments via the Federal e-Rulemaking Portal. Go to https://www.regulations.gov and type NOAA-NMFS-2024-0128 in the Search box. Click the “Comment” icon, complete the required fields, and enter or attach your comments.

• Mail: Submit all written public comments to Frank Helies, Southeast Regional Office, NMFS, 263 13th Avenue South, St. Petersburg, FL 33701.

Instructions: Comments sent by any other method, to any other address or individual, or received after the end of the comment period may not be considered by NMFS. All comments received are a part of the public record and will generally be posted for public viewing on https://www.regulations.gov without change. All personal identifying information (e.g., name, address), confidential business information, or otherwise sensitive information submitted voluntarily by the sender will be publicly accessible. NMFS will accept anonymous comments—enter “N/A” in the required fields if you wish to remain anonymous.

An electronic copy of the application may be obtained from the Southeast Regional Office website at https://www.fisheries.noaa.gov/southeast/commercial-fishing/better-bycatch-reduction-device-gulf-shrimp-fleet-project/.

FOR FURTHER INFORMATION CONTACT: Frank Helies, phone: 727-824-5305, email: frank.helies@noaa.gov.

SUPPLEMENTARY INFORMATION: The EFP is requested under the authority of the Magnuson-Stevens Fishery Conservation and Management Act (Magnuson-Stevens Act; 16 U.S.C 1801 et seq.), and regulations at 50 CFR 600.745(b) concerning exempted fishing.

The EFP application submitted to NMFS involves the use of experimental fishing gear (BRDs) on shrimp trawls in Federal waters. Federal regulations require fishermen on shrimp vessels to use NMFS certified BRDs while trawling for shrimp in Gulf Federal waters [50 CFR 622.53(a)]. The applicant is seeking an EFP that would exempt these research activities from the regulations requiring the use of certified BRDs in Federal waters of the Gulf at 50 CFR 622.53(a), and would allow the applicant to replace an existing approved BRD with one of four experimental BRD configurations as determined by the applicant. The specific EFP request is further described below.

The Better BRDs for the Gulf Shrimp Fleet Project is a collaborative effort between Louisiana Sea Grant, Texas Sea Grant, NOAA Restoration Center, and NMFS to restore finfish populations injured by the Deepwater Horizon oil spill through the development and certification of new BRDs for the commercial shrimp industry throughout the Gulf. The project involves the phased testing of new BRD designs in the commercial shrimp fishery in Federal waters of the Gulf. The new BRD designs could demonstrate a greater reduction in bycatch of finfish, over the federally certified Fisheye BRD, which may also lead to an overall increase in shrimp catch.

The project would further identify and develop new bycatch-reducing technology to reduce finfish discard mortality in commercial shrimp trawls. Additionally, the project seeks to advance cost-effective solutions for the Gulf shrimp fleet that would maximize the adoption and use by fishermen of any improved designs for BRDs that could be certified for use in the fishery.

The project is separated into several phases. The first phase that began in 2022 included proof-of-concept testing of new BRD designs by NMFS Gear Research Branch partners. This proof-of-concept testing included both dive and vessel testing aboard the research vessel Caretta. The dive testing was conducted off Panama City, Florida, and the vessel testing was conducted off Pascagoula, Mississippi. New BRD designs that showed the potential to be effective during proof-of-concept testing were accepted for further evaluation during the project's next phase, which involved stakeholder testing. A final phase planned for the future would be pre-certification and certification testing of the selected BRDs, consistent with the requirements in 50 CFR 622.53(a)(2) and the NMFS Bycatch Reduction Device Testing Manual (https://www.fisheries.noaa.gov/resource/document/bycatch-reduction-device-testing-manual-2016/).

On August 26, 2022, NMFS published a notice announcing receipt of an EFP application to allow stakeholder testing of six BRD designs: Toms Fisheye, Large Mesh Sections, Nested Cylinder, Virgil Potter, Flapless Turtle Excluder Devices, and Composite Panel Variations (87 FR 52512). NMFS issued that EFP on October 6, 2024, and it is valid until December 31, 2024. The purpose of the commercial stakeholder testing authorized under the current EFP is to allow for stakeholder input on the strengths and weaknesses of new BRD designs across a variety of species and environmental conditions within the Gulf shrimp fishery. This testing will also aid in the acceptance of new BRDs by the commercial shrimping industry when the most promising designs are later submitted for NMFS certification.

The current EFP allows selection of up to 30 federally-permitted commercial Gulf shrimp vessels to test gear that passed the proof-of-concept testing. The proposed EFP would increase the number of vessels to 50. As with the current EFP, the location of proof-of-concept testing trial vessels under the proposed EFP would be distributed across the Federal Gulf shrimp fishermen and fishing grounds throughout the Gulf in water depths of 10-50 fathoms or 18-91 meters (m). During testing, fishermen on vessels included in the EFP would be surveyed for qualitative information about the new BRDs, and any other use recommendations that are needed. Additional BRD information including time and difficulty to install, longevity, ease of use (e.g., tangling during deployment or retrieval, and shark damage), bycatch and shrimp retention characteristics, and overall cost would be collected by the applicant to assist with promotion of new BRD designs for industry wide usage.

Vessels in the proposed project would be using experimental BRD designs on trips of up to 30 days at sea. Trip duration and the total number of tows with experimental BRD gear may vary based on sea conditions and vessel business factors at the discretion of the vessel operator. During a 30-day trip, approximately 90 tows with BRD-equipped shrimp trawls are expected to occur. Tow times, which is the length of time the gear is pulled through the water, would be variable between different vessels but would be consistent on the same vessel during each trip. Typical tow times average 3 hours but vary from 1 to 5 hours. If all 50 vessels participate and complete each test tow, there is the potential for a maximum of 3,000 tows for this phase of the project.

The proposed EFP would be valid through December 31, 2028. As with the current EFP, all BRD testing on federally permitted shrimp vessels would occur during the course of normal Gulf shrimp fishing operations and all of these operations would comply with all other current Federal shrimp regulations such as closed areas and size limits.

Experimental BRD Configurations

Under the proposed EFP, four experimental BRD configurations could be tested by the applicant and project vessels. Three of these designs are included in the current EFP—Large Mesh Sections, Flapless Turtle Excluder Devices, and Composite Panel Variations. Each type of experimental BRD to be tested under the proposed EFP is listed and summarized below.

Large Mesh Sections

In the Large Mesh Sections BRD, areas of the trawl net are composed of 2-inch (in) or 5-centimeter (cm) or larger stretched mesh that is much larger in size than the minimum dimensions of the mesh in the cod end of the net where the catch collects, and installed anywhere from 4 to 8 feet (ft) or 1.2 to 2.4 m from the trawl tie off rings. The larger mesh provides openings that make it easier for fish to escape the trawl net.

Flapless Turtle Excluder Devices

The project would test two different designs of flapless turtle excluder devices (TEDs) known as the Chauvin TED and the Drury TED. These are both top-shooting TEDs, which have an escape opening on the net closer to the surface, with PVC pieces placed ahead of the TED extension at the leading edge of the escape opening cut in the net. These TEDs are designed to work as both a TED and a BRD. However, neither TED configuration has been tested as a BRD.

The Chauvin TED is a top-shooting TED that contains a “Chauvin shrimp deflector,” which is an allowable TED modification [50 CFR 223.207(d)(8)]. A modification to the Drury TED is not an allowable TED modification. Therefore, if the Drury TED modification is tested under this EFP, the applicant would need to obtain an additional TED testing permit from NMFS prior to commencement of testing.

Composite Panel Variations

The Composite Panel BRD is a NMFS-certified design that includes two soft panels with two sets of windows that allow fish to escape on the bottom side of the net and a secondary component of either a cone fish deflector, which is designed to guide fish to the escape windows, or a large mesh section installed further down into the net. There is a potential for differences in BRD characteristics when used with a top versus bottom-shooting TED. There is also potential for differences when installed with the escape openings in a top orientation of the composite panel as opposed to the current certified design that orients the escape openings to the bottom. The EFP would allow for testing of configurations that are not already certified for use by NMFS.

Large TED Openings

Large TED escape openings are certified for industry use to comply with the TED requirements but have not been tested as a BRD. The triangular cut design shows potential for bycatch reduction. This design has an opening with a base no less than 40 in (102 cm) wide across the TED frame. The sides of the triangle taper along the bar and must each measure no less than 53 in (135 cm). Similar to the flapless TEDs, the opening allows fish to escape the net.

NMFS finds the application warrants further consideration based on a preliminary review. Possible conditions the agency may impose on the permit, if granted, include but are not limited to, a prohibition on conducting fishing gear testing within marine protected areas, marine sanctuaries, special management zones, or areas where testing might interfere with managed fisheries without additional authorization. Additionally, NMFS may require special protections for Endangered Species Act-listed species and designated critical habitat, and may require particular gear markings. A final decision on issuance of the EFP will depend on NMFS' review of public comments received on the application, consultations with the appropriate fishery management agencies of the affected states, the Gulf of Mexico Fishery Management Council, and the U.S. Coast Guard, and a determination that the activities to be taken under the EFP are consistent with all applicable laws.

Authority: 16 U.S.C 1801 et seq.

Dated: November 8, 2024.
Karen H. Abrams,
Acting Director, Office of Sustainable Fisheries, National Marine Fisheries Service.

[FR Doc. 2024-26763 Filed 11-15-24; 8:45 am]

BILLING CODE 3510-22-P